DEPARTMENT OF LABOR

Employment and Training Administration

[TA-W-56,172]

Cooper-Atkins Corporation, Including Leased Workers of Wal-Staf Staffing Agency, Gainesville, FL; Amended Certification Regarding Eligibility to Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on January 13, 2005, applicable to workers of Cooper-Atkins Corporation, Gainesville, Florida. The notice was published in the Federal Register on February 7, 2005 (70 FR 6460).

At the request of the State agency, the Department reviewed the certification for workers of the subject firm. Information provided by the company shows that leased workers of Wal-Staf Staffing Agency were employed at Cooper-Atkins Corporation to produce thermocouple thermometers at the Gainesville, Florida location of the subject firm.

Based on these findings, the Department is amending this certification to include leased workers of Wal-Staf Staffing Agency, Gainesville, Florida employed at Cooper-Atkins Corporation, Gainesville, Florida.

The intent of the Department's certification is to include all workers of Cooper-Atkins Corporation who were adversely affected by increased imports.

The amended notice applicable to TA-W-56,172 is hereby issued as follows:

All workers of Cooper-Atkins Corporation, Gainesville, Florida including leased workers of Wal-Staf Staffing Agency, Gainesville engaged in employment related to the production of thermocouple thermometers at Cooper-Atkins Corporation, Gainesville, Florida, who became totally or partially separated from employment on or after December 6, 2003, through January 13, 2007, are eligible to apply for adjustment assistance under section 223 of the Trade Act of 1974 and are also eligible to apply for alternative trade adjustment assistance under section 246 of the Trade Act of 1974.

Signed at Washington, DC this 9th day of February 2005.
Elliott S. Kushner,
Certifying Officer, Division of Trade Adjustment Assistance.

[FR Doc. E5-690 Filed 2-18-05; 8:45 am]

BILLING CODE 4510-30-P